DEPARTMENT OF HEALTH AND HUMAN SERVICES

National Toxicology Program (NTP); Liaison and Scientific Review Office; Meeting of the Scientific Advisory Committee on Alternative Toxicological Methods (SACATM)

AGENCY: National Institute of Environmental Health Sciences (NIEHS), National Institutes of Health (NIH).

ACTION: Meeting announcement and request for comment.

SUMMARY: Pursuant to section 10(a) of the Federal Advisory Committee Act, as amended (5 U.S.C. Appendix 2), notice is hereby given of a meeting of SACATM on June 12, 2007, at the Marriott Bethesda North Hotel and Conference Center, 5701 Marinelli Road, Bethesda, Maryland. The meeting is scheduled from 8:30 a.m. to adjournment (~5 p.m.) and is open to the public with attendance limited only the space available. SACATM advises the Interagency Coordinating Committee on the Validation of Alternative Methods (ICCVAM), the NTP Interagency Center for the Evaluation of Alternative Toxicological Methods (NICEATM), and the Director of the NIEHS and NTP regarding statutorily mandated duties of ICCVAM and activities of NICEATM.

DATES: The SACATM meeting will be held on June 12, 2007. All individuals who plan to attend are encouraged to register online at the NTP Web site (http://ntp.niehs.nih.gov/go/7441) by June 8, 2007. In order to facilitate planning, persons wishing to make an oral presentation are asked to notify Dr. Mary S. Wolfe via online registration, phone, or email by June 4, 2007 (see ADDRESSES below). Written comments should also be received by June 4 to enable review by SACATM and NIEHS/NTP staff before the meeting.

ADDRESSES: The SACATM meeting will be held at the Marriott Bethesda North Hotel & Conference Center, 5701 Marinelli Road, Bethesda, Maryland 20852 [hotel: (301) 822-9200]. Public comments and other correspondence should be directed to Dr. Mary S. Wolfe (NIEHS, P.O. Box 12233, MD A3-01, Research Triangle Park, NC 27709; telephone: 919-541-7539 or e-mail: wolfe@niehs.nih.gov). Persons needing special assistance, such as sign language interpretation or other reasonable accommodation in order to attend, should contact 919-541-2475 voice, 919-541-4644 TTY (text telephone), through the Federal TTY Relay System at 800-877-8339, or send e-mail to niehsoeeo@niehs.nih.gov. Requests should be made at least 7 days in advance of the meeting.

SUPPLEMENTARY INFORMATION:

Preliminary Agenda and Availability of Meeting Materials

A preliminary agenda is provided below. Additional background materials will be posted on the NTP Web site (http://ntp.niehs.nih.gov/go/7441) or available upon request (see ADDRESSES above). One agenda topic is discussion of the draft NICEATM-ICCVAM 5-Year Plan, which will be available by May 7 and presented at a public Town Meeting at the William H. Natcher Center, NIH, 9000 Rockville Pike, Bethesda, Maryland on June 11 (http://iccvam.niehs.nih.gov/meetings/5YPlanTM/townmtg.htm). The Town Meeting will be announced in a separate Federal Register notice. Following the SACATM meeting, summary minutes will be prepared and available on NTP Web site or upon request.

Preliminary Agenda

Scientific Advisory Committee on Alternative Toxicological Methods

June 12, 2007

Marriott Bethesda North Hotel & Conference Center, 5701 Marinelli Road, Bethesda, Maryland 20852

8:30 a.m.

• Call to Order and Introductions

• NICEATM-ICCVAM Update

• Draft NICEATM-ICCVAM 5-Year Plan

○ Public Comment

Noon LUNCH

1 p.m.

• ICCVAM Evaluation of In Vitro Pyrogenicity Test Methods

○ Public Comment

• Nominations to ICCVAM

○ Public Comment

• NTP High Throughput Screening Initiative

○ Public Comment

• Update from the European Center for the Evaluation of Alternative Methods

• Update from the Japanese Center for the Validation of Alternative Methods

• Other Business

5 p.m. ADJOURN

Request for Comments

Public input is invited and time is set-aside at the meeting for presentation of oral comments. Each organization is allowed one time slot per public comment period. At least 7 minutes will be allotted for each speaker, and if time permits, may be extended up to 10 minutes at the discretion of the chair. Registration for oral comments will also be available on-site, although time allowed for presentation by on-site registrants may be less than for pre-registered speakers and will be determined by the number of persons who register at the meeting.

Persons registering to make oral comments are asked to do so through the online registration form (http://ntp.niehs.nih.gov/go/7441) and to send a copy of their statement to Dr. Wolfe (see ADDRESSES above) by June 4 to enable review by SACATM and NIEHS/NTP staff prior to the meeting. Written statements can supplement and may expand the oral presentation. If registering on-site and reading from written text, please bring 40 copies of the statement for distribution and to supplement the record. Written comments received in response to this notice will be posted on the NTP Web site. Persons submitting written comments should include their name, affiliation (if applicable), and sponsoring organization (if any) with the document.

Background Information on SACATM

SACATM was established in response to the ICCVAM Authorization Act [42 U.S.C. 285l-3(d)] and is composed of scientists from the public and private sectors. SACATM advises ICCVAM, NICEATM, and the Director of the NIEHS and NTP regarding statutorily mandated duties of ICCVAM and activities of NICEATM. SACATM provides advice on priorities and activities related to the development, validation, scientific review, regulatory acceptance, implementation, and national and international harmonization of new, revised, and alternative toxicological test methods. Additional information about SACATM, including the charter, roster, and records of past meetings, can be found at http://ntp.niehs.nih.gov/go/167. Information about NICEATM and ICCVAM is available at http://iccvam.niehs.nih.gov or by contacting the NICEATM Director, Dr. William Stokes (telephone: 919-541-2384 or e-mail: niceatm@niehs.nih.gov).

Dated: April 17, 2007.
Samuel H. Wilson,
Deputy Director, National Institute of Environmental Health Sciences and National Toxicology Program.

[FR Doc. E7-8289 Filed 4-30-07; 8:45 am]

BILLING CODE 4140-01-P